DEPARTMENT OF LABOR

Bureau of Labor Statistics

Technical Advisory Committee; Notice of Meeting and Agenda

The Bureau of Labor Statistics Technical Advisory Committee will meet on Thursday, November 16, 2023. This meeting will be held virtually from 10:00 a.m. to 4:00 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics, data science, and survey design. The schedule and agenda for the meeting are as follows:

10:00 a.m. Acting Commissioner's Welcome and Review of Agency Developments

10:30 a.m. Using record linkage techniques to improve data import rates into the Survey of Occupational Injuries and Illnesses

1:00 p.m. Development of Small Domain Estimation Models for Occupational Requirements Survey (ORS)

2:30 p.m. Productivity Dispersion Statistics for Retail Trade

4:00 p.m. Approximate Conclusion

The meeting is open to the public. Any questions concerning the meeting should be directed to Michael Giandrea, Bureau of Labor Statistics Technical Advisory Committee, at BLSTAC@bls.gov. Individuals planning to attend the meeting should register at https://blstac.eventbrite.com. Individuals who require special accommodations should contact Mr. Giandrea at least two days prior to the meeting date.

Signed at Washington, DC, this 6th day of October 2023.
Leslie Bennett,
Chief, Division of Management Systems.

[FR Doc. 2023-22541 Filed 10-12-23; 8:45 am]

BILLING CODE 4510-24-P